DEPARTMENT OF DEFENSE

Department of the Navy

Notice of Intent To Prepare an Environmental Impact Statement (EIS) for Implementation of the 2005 Base Realignment and Closure (BRAC) Decision To Relocate Walter Reed Army Medical Center (WRAMC) Activities from Washington, DC to the National Naval Medical Center (NNMC) in Bethesda, MD and To Announce Public Scoping Meetings

AGENCY: Department of the Navy, DoD.

ACTION: Notice.

SUMMARY: Pursuant to Section (102)(2)(C) of the National Environmental Policy Act (NEPA) of 1969, the regulations implemented by the Council on Environmental Quality (40 CFR parts 1500-1508), and the Department of the Navy NEPA regulation (32 CFR part 775), the Department of the Navy (DON) announces its intent to prepare an EIS to evaluate the potential environmental impacts associated with relocation of certain WRAMC activities from Washington, DC, to the NNMC in Bethesda, MD per Public Law 101-510, the Defense Base Closure and Realignment Act of 1990 (BRAC Law). Potential impacts associated with normal future growth expected from changes in mission, force protection, improved security, and accessibility for disabled persons will also be evaluated and will contribute to the alternatives considered.

The DON will hold public scoping meetings for the purpose of further identifying the scope of issues to be addressed in the EIS. Written and recorded comments will be accepted during this time. To ensure that the full range of issues related to this proposed action will be addressed, representatives from NNMC Bethesda will be available to answer questions and solicit public comments from interested parties during the scheduled public scoping meetings. Following publication of the draft EIS, at a time to be determined, further public meetings will be held to address comments on the draft document.

DATES: The DON will conduct public scoping meetings in Bethesda, Montgomery County, MD, to receive oral and/or written comments. The public meetings will be conducted in English. Both comment sheets and a recorder will be made available to document individual comments received at the public scoping meetings scheduled below:

1. Open House: Tuesday, December 12, 2006, 7 p.m.-9 p.m., Bethesda Marriott, 5151 Pooks Hill Road, Bethesda, MD.

2. Open House: Tuesday, December 19, 2006, 6:30 p.m.-10 p.m., Bethesda Marriott, 5151 Pooks Hill Road, Bethesda, MD. Open house will begin at 6:30 p.m. followed by a brief Navy presentation at 7:30 p.m.

3. Open House: Thursday, December 21, 2006, 1 p.m.-4 p.m., Bethesda Marriott, 5151 Pooks Hill Road, Bethesda, MD.

4. Open House: Thursday, December 21, 2006, 7 p.m.-9 p.m., Bethesda Marriott, 5151 Pooks Hill Road, Bethesda, MD.

FOR FURTHER INFORMATION CONTACT: Officer in Charge—BRAC, NNMC, 8901 Wisconsin Avenue, Bethesda, MD 20889, telephone 301-295-2722, fax 301-474-5419, e-mail: NNMCEIS@bethesda.med.navy.mil.

SUPPLEMENTARY INFORMATION: The Defense BRAC Commission was established by Public Law 101-510, the BRAC Law, to recommend military installations for realignment and closure. Recommendations of the 2005 BRAC Commission were included in a report presented to the President on September 8, 2005. The President approved and forwarded this report to Congress on September 16, 2005, which became effective as public law on November 9, 2005, and must be implemented in accordance with the requirements of the BRAC Law.

The BRAC Law exempts the decision-making process of the Commission from the provisions of NEPA. The Law also relieves the DoD from the NEPA requirement to consider the need for closing, realigning, or transferring functions, and from looking at alternative installations to close or realign. The DON is preparing environmental impact analyses during the process of relocating functions from military installations being closed or realigned to other military installations after the receiving installations have been selected, but before functions are relocated. The analyses will consider direct and indirect environmental and socioeconomic effects of these actions and cumulative impacts of other reasonably foreseeable actions affecting receiving installations.

The BRAC recommendations for realignment of WRAMC, Washington, DC, are as follows: Relocate all tertiary (sub-specialty and complex care) medical services to NNMC, Bethesda, MD, establishing it as the Walter Reed National Military Medical Center Bethesda, MD; relocate Legal Medicine to the new Walter Reed National Military Medical Center Bethesda, MD; relocate sufficient personnel to the new Walter Reed National Military Medical Center Bethesda, MD, to establish a Program Management Office that will coordinate pathology results, contract administration and quality assurance, and control of DoD second opinion consults worldwide; relocate all non-tertiary (primary and specialty) patient care functions to a new community hospital at Ft. Belvoir, VA.

NNMC Bethesda is a Navy-owned 243-acre military health care, medical education, and research installation located in Bethesda, MD. The National Institutes of Health main campus is directly west of NNMC. Other neighbors surrounding NNMC include Stone Ridge School of the Sacred Heart, residential housing, North Chevy Chase Recreation Center, Rock Creek Park, and the Columbia Country Club. Interstate 495 is adjacent to the northeastern corner of NNMC.

The proposed action for this EIS is to accommodate the BRAC 2005 law. The BRAC-directed action includes various mission relocations from WRAMC which result in movement of medical, educational, and support services to NNMC. The BRAC-directed action must be completed on or before September 15, 2011. Upon completion of the merger, the existing WRAMC will close and the new premier medical center will be renamed the Walter Reed National Military Medical Center at Bethesda.

The EIS will consider the possible combinations of locations on base that are reasonable to accomplish the proposed action: The adaptive reuse of existing facilities through renovation, with emphasis on preservation of the historic context and integrity of existing buildings; the use of new construction; the potential long-term growth in installation missions; and identification of cost-effective and timely means of meeting mission requirements, the BRAC deadline, and other deadlines. These factors are currently under evaluation by an Installation Master Plan effort, which will cover a 10-year planning period that extends to the year 2016. The Master Plan and the EIS are subject to a formal review process under the authority of the National Capitol Planning Commission (NCPC). The Master Plan will include a separate document, referenced in the EIS, to comply with NCPC traffic management analysis requirements.

Alternatives were developed to assess the proposed action and potential additional development that may occur at NNMC. Alternatives to be considered include: (1) Implement the BRAC recommendation; (2) implement the BRAC recommendation and provide for future anticipated growth, support activities, and changes to the installation; and (3) no action, with NNMC continuing to maintain and repair existing facilities without additional growth.

Alternative 1 will meet the requirements of the BRAC Law by providing additions and alterations to NNMC such as additional parking and alterations to administrative and physical training facilities to accommodate functions and activities relocating from WRAMC. Road and utility improvements would be included. Additional facilities and infrastructure needed to re-establish the relocating mission and allow the installation to function are provided in this alternative. These include temporary and permanent lodging facilities, and improvements to access gates to accommodate added traffic volume and meet current Anti-terrorism/Force Protection standards. It is anticipated that completion of this action will result in NNMC facility additions and alterations totaling approximately 1,100,000 square feet, additional appropriate parking facilities totaling about 900,000 square feet, the addition of approximately 1,400 full-time staff members, and about 435,000 additional patients and visitors using the facilities per year.

Alternative 2 includes all items considered under Alternative 1 and adds anticipated future growth of other missions performed at the installation. This will include expansion of DoD medical education and research facilities, improved or replacement athletic facilities, a potential pedestrian bridge across Wisconsin Avenue, security enhancements, and added retail space. It is anticipated that Alternative 2 would result in the following increases over those described in Alternative 1: Facility additions and alterations totaling approximately 650,000 square feet; additional appropriate parking facilities totaling approximately 130,000 square feet; the addition of approximately 1,100 full-time staff members; and about 100,000 additional patients and visitors using the facilities per year.

Alternative 3 is required by statute and will evaluate the impacts at NNMC in the event that additional growth from BRAC and non-BRAC action does not occur. NNMC would continue to maintain and repair facilities in response to requirements from Congressional action or revisions to building codes. Implementation of Alternative 3 would require the Congress to change the existing BRAC Law.

The EIS will address potential direct, indirect, short-term, long term, and cumulative impacts to the human and natural environment, to include potential impacts to topography, geology, and soils, water resources, biological resources, air quality, noise, infrastructure and utilities, traffic, cultural resources, land use, socioeconomics, environmental justice, and hazardous waste and materials. Known areas of concern associated with the BRAC action include providing required space and facilities at NNMC in consideration of historic characteristics, and impacts to local traffic and on-base parking associated with increases in personnel and patient visits.

The DON is initiating the scoping process to identify community concerns and issues that should be addressed in the EIS. Agencies and the public are encouraged to provide written comments in addition to, or in lieu of, oral comments at scheduled public scoping meetings. Comments should clearly describe specific issues or topics that the EIS should address. Written comments must be postmarked or e-mailed by midnight January 04, 2007, and should be sent to: Officer in Charge—BRAC, NNMC, 8901 Wisconsin Avenue, Bethesda, MD 20889, telephone 301-295-2722, fax 301-474-5419, e-mail: NNMCEIS@ bethesda.med.navy.mil. Requests for inclusion on the EIS mailing list may also be submitted to this address.

Requests for special assistance, sign language interpretation for the hearing impaired, language interpreters, or other auxiliary aids for scheduled public scoping meetings must be sent by mail or e-mail by December 06, 2006, to Ms. Amanda Goebel, The Louis Berger Group, Inc., telephone 202-912-0267, e-mail: agoebel@louisberger.com.

Dated: November 15, 2006.
M.A. Harvison,
Lieutenant Commander, Judge Advocate General's Corps, U.S. Navy, Federal Register Liaison Officer.

[FR Doc. E6-19635 Filed 11-20-06; 8:45 am]

BILLING CODE 3810-FF-P